ENVIRONMENTAL PROTECTION AGENCY

[FRL-9774-7]

Notice of Proposed Administrative Cashout Agreement Pursuant to the Comprehensive Environmental Response, Compensation, and Liability Act; In Re: The Miller Salvage Superfund Site, Latham, Pike County, OH

AGENCY: U.S. Environmental Protection Agency (EPA).

ACTION: Notice; request for public comment.

SUMMARY: Notice is hereby given of a proposed administrative settlement under CERCLA concerning the Miller Salvage Superfund Site (“Site”) in Latham, Pike County, Ohio. Subject to review and comment by the public pursuant to this Notice. The settlement resolves a United States Environmental Protection Agency claim under Sections 106, 107(a), and 122 of CERCLA, against one party who has executed binding certifications of its consent to the settlement, as listed below in the Supplemental Information Section.

The settlement requires the settling party to pay a total of $52,000 to the EPA Hazardous Substances Superfund. The payment received shall be applied, retained, or used to finance the response actions taken or to be taken at or in connection with the Site. For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the EPA, Region 5, 7th Floor File Room, 77 West Jackson Boulevard, Chicago, Illinois.

DATES: Comments must be submitted by March 4, 2013.

ADDRESSES: The proposed settlement is available for public inspection at the EPA, Region 5, 7th Floor File Room, 77 West Jackson Boulevard, Chicago, Illinois. In addition, a copy of the proposed settlement also may be obtained from Nola M. Hicks, Associate Regional Counsel (C-14J), Region 5, 77 West Jackson Boulevard, Chicago, Illinois 60604-3590, or by calling (312) 886-7949. Comments should reference the Miller Salvage Superfund Site, Latham, Pike County, Ohio and EPA Docket No. and should be addressed to Nola M. Hicks, Associate Regional Counsel (C-14J), Region 5, 77 West Jackson Boulevard, Chicago, Illinois 60604.

SUPPLEMENTARY INFORMATION: The parties listed below have executed binding certifications of their consent to participate in the settlement. MASCO Cabinetry Middlefield LLC, successor by way of merger to Mill's Pride, LP.

FOR FURTHER INFORMATION CONTACT: Nola M. Hicks, Associate Regional Counsel (C-14J), Region 5, 77 West Jackson Boulevard, Chicago, Illinois 60604, or call (312) 886-7949.

Authority: The Comprehensive Environmental Response, Compensation and Liability Act, of 1980, 42 U.S.C. 9604, 9606(a), 9607, and 9622, as amended.

Dated: December 20, 2012.
Richard C. Karl,
Director, Superfund Division, Region 5.

[FR Doc. 2013-02227 Filed 1-31-13; 8:45 am]

BILLING CODE 6560-50-P